DEPARTMENT OF ENERGY

Federal Energy Regulatory Commission

Sunshine Act Meetings

The following notice of meeting is published pursuant to section 3(a) of the government in the Sunshine Act (Pub. L. 94-409), 5 U.S.C.552b:

AGENCY HOLDING MEETING: Federal Energy Regulatory Commission.

TIME AND DATE: March 20, 2025, 10:00 a.m.

PLACE: Room 2C, 888 First Street NE, Washington, DC 20426.

STATUS: Open to the public.

MATTERS TO BE CONSIDERED: Agenda.

* Note—Items listed on the agenda may be deleted without further notice.

CONTACT PERSON FOR MORE INFORMATION: Debbie-Anne A. Reese, Secretary, Telephone (202) 502-8400.

For a recorded message listing items Stricken from or added to the meeting, call (202) 502-8627. This is a list of matters to be considered by the Commission. It does not include a listing of all documents relevant to the items on the agenda. All public documents, however, may be viewed online at the Commission's website at https://elibrary.ferc.gov/eLibrary/search using the eLibrary link.

1123rd—Meeting
[Open; March 20, 2025 10:00 a.m.]
Item No. | Docket No. | Company
Administrative
A-1 | AD25-1-000 | Agency Administrative Matters.
A-2 | AD25-2-000 | Customer Matters, Reliability, Security, and Market Operations.
A-3 | AD06-3-000 | Market Update.
Electric
E-1 | ER24-2184-000; ER24-2184-001; ER24-2185-000; ER24-2185-001 | Southwest Power Pool, Inc.
E-2 | ER24-756-000; ER24-756-001 | Avista Corporation.
E-3 | ER24-1554-000; ER24-1554-001 | Duke Energy Carolinas, LLC and Duke Energy Progress, LLC.
E-4 | ER24-2043-000 | Basin Electric Power Cooperative.
E-5 | ER24-2036-000 | Lucky Corridor, LLC.
E-6 | EL24-147-000 | Ponderosa Power, LLC v. NorthWestern Corporation.
E-7 | ER24-2906-000 | Southwest Power Pool, Inc.
E-8 | EL22-80-001 | American Municipal Power, Inc., Office of the People's Counsel for the District of Columbia, and the PJM Industrial Customer Coalition v. PJM Interconnection, L.L.C.
| EL22-85-001 | PJM Interconnection, L.L.C.
E-9 | ER24-2397-001 | Southwest Power Pool, Inc.
E-10 | EL24-74-001 | Municipal Energy Agency of Nebraska and the Colorado Cities of Aspen and Glenwood Springs and the Town of Center, Colorado v. Public Service Company of Colorado.
E-11 | ER24-3107-002; ER24-3108-001 | Evergy Kansas Central, Inc.
| ER24-3114-001 | Evergy Kansas Central, Inc.; Evergy Kansas South, Inc.; Southwest Power Pool, Inc.
| ER24-3115-001 | Evergy Metro Inc.; Southwest Power Pool, Inc.
E-12 | ER24-3107-001 | Evergy Kansas Central, Inc.
E-13 | Welcome Solar, LLC, Welcome Solar II, LLC, and Welcome Solar III, LLC v. PJM Interconnection, L.L.C. | EL25-5-000
| ER25-453-000; ER25-454-000; ER25-455-000 | PJM Interconnection, L.L.C.
E-14 | EL24-61-001 | Montana-Dakota Utilities Co. v. Midcontinent Independent System Operator, Inc. and Southwest Power Pool, Inc.
| EL24-85-001 | Midcontinent Independent System Operator, Inc. v. Southwest Power Pool, Inc.
E-15 | ER24-1586-001 | Midcontinent Independent System Operator, Inc.
E-16 | ER25-526-000 | California Independent System Operator Corporation.
| ER21-2579-000 | EDF Trading North America LLC.
E-17 | ER25-824-000 | FirstEnergy Service Company and Potomac Edison Company.
Hydro
H-1 | P-606-042 | Pacific Gas and Electric Company.
Certificates
C-1 | CP24-124-000 | Colorado Interstate Gas Company, L.L.C.
C-2 | OMITTED
C-3 | CP24-510-000 | Florida Gas Transmission Company, LLC.
C-4 | CP24-80-000 | Mississippi Hub, LLC.
C-5 | CP15-550-002; CP15-550-000 | Venture Global Calcasieu Pass, LLC

A free webcast of this event is available through the Commission's website. Anyone with Internet access who desires to view this event can do so by navigating to www.ferc.gov's Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Issued: March 13, 2025.
Debbie-Anne A. Reese,
Secretary.

[FR Doc. 2025-04703 Filed 3-17-25; 11:15 am]

BILLING CODE 6717-01-P